DEPARTMENT OF AGRICULTURE

Forest Service

Helena National Forest, MT, Warm Springs Habitat Enhancement Project

AGENCY: Forest Service, USDA.

ACTION: Notice of intent to prepare an environmental impact statement.

SUMMARY: The Helena National Forest is going to prepare an environmental impact statement for vegetation management actions in the Warm Springs area of the Elkhorn Mountains. The purpose and need for action is to restore and promote a fire-dependent ecosystem that is resilient to high intensity wildfire. There is a need to restore ponderosa pine and aspen habitats.

DATES: Comments concerning the scope of the analysis must be received by November 9, 2009. The draft environmental impact statement is expected February 2010 and the final environmental impact statement is expected June 2010.

ADDRESSES: Send written comments to Liz VanGenderen, Helena National Forest, 2880 Skyway Drive, Helena, MT 59602. Comments may also be sent via e-mail to comments-northern-Helena@fs.fed.us, or via facsimile to 406-449-5436.

It is important that reviewers provide their comments at such times and in such a way that they are useful to the Agency's preparation of the EIS. Therefore, comments should be provided prior to the close of the comment period and should clearly articulate the reviewer's concerns and contentions.

Comments received in response to this solicitation, including names and addresses of those who comment, will be part of the public record for this proposed action. Comments submitted anonymously will be accepted and considered, however.

FOR FURTHER INFORMATION CONTACT: Liz VanGenderen at 406-449-5201.

Individuals who use telecommunication devices for the deaf (TDD) may call the Federal Information Relay Service (FIRS) at 1-800-877-8339 between 8 a.m. and 8 p.m., Eastern Time, Monday through Friday.

SUPPLEMENTARY INFORMATION:

Purpose and Need for Action

A variety of factors have influenced the need for treatment in this area. The project area represents the only place in the Elkhorn Mountains with a substantial component of ponderosa pine and aspen groves. Due to wildfire suppression and the lack of frequent, low-intensity fires, the ponderosa pine forests have filled in with younger conifers and are currently experiencing high levels of mortality associated with mountain pine beetles. The fuels available for supporting a large wildfire are extensive and becoming more continuous.

Aspen stands have declined due to the lack of natural fire which aspen clones need to survive and thrive. Fire suppression has also allowed the growth of conifers in areas which compete with aspen.

The project is also part of the Birds and Burns Network, a research study led by the Rocky Mountain Research Station to examine fire effects on populations and habitats of wildlife in ponderosa pine forests in eight states across the western United States. The goal of this research in the project area has now expanded to include consequences of mountain pine beetle for wildlife in ponderosa pine.

Proposed Action

The types of treatments being proposed include intermediate harvest, regeneration harvest, and prescribed fire. Approximately 3,770 acres of ponderosa pine would be enhanced by a combination of regeneration and intermediate harvests, and prescribed fire. Aspen that occur in these acres would also be enhanced. Approximately 170 acres of aspen and grassland would also be enhanced by using prescribed fire following the use of a masticator or chainsaw. Approximately 260 acres of Douglas-fir enhancement would be achieved by a combination of regeneration and intermediate harvest, and prescribed fire. Aspen occurring in these acres would also be enhanced. Up to 11.4 miles of new temporary road construction and reconstruction of approximately 10.2 miles would be necessary to implement the proposed action. The temporary roads would be fully recontoured following the project.

Responsible Official

Helena National Forest Supervisor.

Nature of Decision To Be Made

The decision to be made includes: whether to implement the proposed action or an alternative to the proposed action, what monitoring requirements would be appropriate to evaluate the implementation of this project, and whether a forest plan amendment would be necessary as a result of the decision for this project.

Scoping Process

This notice of intent initiates the scoping process, which guides the development of the environmental impact statement. In October 2009, a scoping package will be mailed, an open house will be scheduled, and Web site information will be posted.

It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

Dated: October 2, 2009.
Kevin T. Riordan,
Forest Supervisor.

[FR Doc. E9-24344 Filed 10-8-09; 8:45 am]

BILLING CODE 3410-11-P